DEPARTMENT OF THE TREASURY

Internal Revenue Service

26 CFR Part 1

Income Taxes

CFR Correction

This rule is being published by the Office of the Federal Register to correct an editorial or technical error that appeared in the most recent an1nual revision of the Code of Federal Regulations.

In Title 26 of the Code of Federal Regulations, Part 1 (§§ 1.170 to 1.300), revised as of April 1, 2021, in section 1.263A-3, remove paragraphs (i), (ii), (iii), and (2)(B) that follow paragraph (a)(2)(iii).

[FR Doc. 2022-06498 Filed 3-24-22; 8:45 am]

BILLING CODE 0099-10-P